DEPARTMENT OF ENERGY

Federal Energy Regulatory Commission

Combined Notice of Filings #2

Take notice that the Commission received the following electric rate filings:

Docket Numbers: ER11-3980-001.

Applicants: ORNI 14 LLC.

Description: ORNI 14 submits tariff filing per 35.17(b): ORNI 14 LLC Amendment to Petition to be effective 7/2/2011.

Filed Date: 08/22/2011.

Accession Number: 20110822-5032.

Comment Date: 5 p.m. Eastern Time on Tuesday, September 06, 2011.

Docket Numbers: ER11-4342-000.

Applicants: PJM Interconnection, L.L.C.

Description: PJM Interconnection, L.L.C. submits tariff filing per 35.13(a)(2)(iii: Certificate of Concurrence in ER10-1657-000 regarding the NYISO-PJM JOA to be effective, 9/17/2010.

Filed Date: 08/22/2011.

Accession Number: 20110822-5016.

Comment Date: 5 p.m. Eastern Time on Monday, September 12, 2011.

Docket Numbers: ER11-4343-000.

Applicants: PJM Interconnection, L.L.C.

Description: PJM Interconnection, L.L.C. submits tariff filing per 35.13(a)(2)(iii: Certificate of Concurrence in ER11-3663-000 regarding the NYISO-PJM JOA to be effective 9/17/2010.

Filed Date: 08/22/2011.

Accession Number: 20110822-5017.

Comment Date: 5 p.m. Eastern Time on Monday, September 12, 2011.

Docket Numbers: ER11-4344-000.

Applicants: PJM Interconnection, L.L.C.

Description: PJM Interconnection, L.L.C. submits tariff filing per 35.13(a)(2)(iii: Certificate of Concurrence in ER11-3814 regarding the NYISO-PJM JOA to be effective 9/17/2010.

Filed Date: 08/22/2011.

Accession Number: 20110822-5018.

Comment Date: 5 p.m. Eastern Time on Monday, September 12, 2011.

Docket Numbers: ER11-4345-000.

Applicants: Southern California Edison Company.

Description: Southern California Edison Company submits tariff filing per 35.13(a)(2)(iii: SGIA WDT SERV SCE-GPS 13230 San Bernardino Ave., Fontana Roof Top Solar Project to be effective 8/23/2011.

Filed Date: 08/22/2011.

Accession Number: 20110822-5037.

Comment Date: 5 p.m. Eastern Time on Monday, September 12, 2011.

Docket Numbers: ER11-4346-000.

Applicants: ITC Midwest LLC.

Description: ITC Midwest LLC submits tariff filing per 35.13(a)(2)(iii: Filing of an Interconnection Agreement to be effective 10/22/2011.

Filed Date: 08/22/2011.

Accession Number: 20110822-5062.

Comment Date: 5 p.m. Eastern Time on Monday, September 12, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2011.
Nathaniel J. Davis, Sr.,
Deputy Secretary.

[FR Doc. 2011-21995 Filed 8-26-11; 8:45 am]

BILLING CODE 6717-01-P